DEPARTMENT OF COMMERCE

International Trade Administration

[A-570-909]

Certain Steel Nails From the People's Republic of China: Extension of Time Limit for the Final Results of the First New Shipper Review

AGENCY: Import Administration, International Trade Administration, Department of Commerce.

DATES: Effective Date: March 25, 2010.

FOR FURTHER INFORMATION CONTACT: Tim Lord, AD/CVD Operations, Office 9, Import Administration, International Trade Administration, U.S. Department of Commerce, 14th Street and Constitution Avenue, NW., Washington, DC 20230; telephone: (202) 482-7425.

Background

On January 15, 2010 the Department of Commerce (“Department”) published the preliminary results of the new shipper review for Qingdao Denarius Manufacture Co., Ltd for the period January 23, 2008, through January 31, 2009. See Certain Steel Nails from the People's Republic of China: Notice of Preliminary Results of the New Shipper Review, 75 FR 2483 (January 15, 2010) (“Preliminary Results”). On February 16, 2010, the Department issued a memorandum that tolled the deadlines for all Import Administration cases by seven calendar days due to the recent Federal Government closure. See Memorandum for the Record from Ronald Lorentzen, DAS for Import Administration, Tolling of Administrative Deadlines as a Result of the Government Closure During the Recent Snowstorm, dated February 12, 2010. As a result, the final results are currently due on April 15, 2010.

Extension of Time Limits for the Final Results

Section 751(a)(2)(B)(iv) of the Tariff Act of 1930, as amended (“Act”), and 19 CFR 351.214(i)(1) require the Department to issue the preliminary results of a new shipper review within 180 days after the date on which the new shipper review was initiated and the final results of a review within 90 days after the date on which the preliminary results were issued. The Department may, however, extend the deadline for completion of the final results of a new shipper review to 150 days if it determines that the case is extraordinarily complicated. See section 751(a)(2)(B)(iv) of the Act, and 19 CFR 351.214(i)(2).

The Department has determined that the review is extraordinarily complicated because of issues related to surrogate valuation and other calculation-related issues. In addition, based on the Department's extension of the briefing schedule and the additional information that must be analyzed, the final results of this new shipper review cannot be completed within the statutory time limit of 90 days. Accordingly, the Department is extending the time limit for the completion of the final results by 60 days until June 14, 2010, in accordance with section 751(a)(2)(B)(iv) of the Act and 19 CFR 351.214(i)(2).

This notice is issued and published in accordance with section 751(a)(1) of the Act and 19 CFR 351.214(i)(2).

Dated: March 19, 2010.
John M. Andersen,
Acting Deputy Assistant Secretary for Antidumping and Countervailing Duty Operations.

[FR Doc. 2010-6640 Filed 3-24-10; 8:45 am]

BILLING CODE 3510-DS-P